DEPARTMENT OF THE INTERIOR

National Park Service

[NPS-WASO-NAGPRA-NPS0027607, PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to TVA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to TVA at the address in this notice by May 29, 2019.

ADDRESSES: Dr. Thomas O. Maher, TVA, 400 West Summit Hill Drive, WT11C, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of Tennessee Valley Authority, Knoxville, TN. The human remains and associated funerary objects were removed from an archeological site in Marshall County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Poarch Band of Creeks (previously listed as the Poarch Band of Creek Indians of Alabama); The Chickasaw Nation; The Choctaw Nation of Oklahoma; The Muscogee (Creek) Nation; The Seminole Nation of Oklahoma; and the United Keetoowah Band of Cherokee Indians in Oklahoma (hereafter referred to as “The Consulted Tribes”).

History and Description of the Remains

This site was excavated as part of TVA's Guntersville Reservoir project by the Alabama Museum of Natural History (AMNH) at the University of Alabama, using labor and funds provided by the Works Progress Administration. Details regarding the excavations and sites may be found in “An Archaeological Survey of Guntersville Basin on the Tennessee River in Northern Alabama,” a report by William S. Webb and Charles G. Wilder. The human remains and associated funerary objects excavated from the sites listed in this notice have been in the physical custody of the AMNH at the University of Alabama since they were excavated.

From May to August, 1937, human remains representing, at minimum, 31 individuals were removed from the McKee Island site, 1MS32, in Marshall County, AL. TVA acquired the site on November 12, 1936, as part of the Guntersville Reservoir project. This midden-rich village extended 800 feet along a ridge of the now-inundated McKee Island. These 31 individuals were removed from historic Native American burials. The human remains represent adults, juveniles, and infants of both sexes. The 3,629 associated funerary objects include: One antler tool, one bear tooth pendant, 269 brass beads, 12 brass bells, five brass bracelets, seven brass bracelet fragments, three brass collar fragments, seven brass cones, four brass disks, one brass gorget, 15 brass ornament fragments, two brass sheet metal, 14 chert bifaces, 10 chert cores, one chert hammerstone, seven chert flakes, four chert preforms, 16 chert scrapers, four chert unifaces, one conch shell cup, one copper band, 110 copper beads, six copper discs, eight perforated copper discs, one copper gorget, one ceramic elbow pipe, three pieces of fabric, one piece of fabric with copper beads, 2,776 glass beads, one ground limonite nodule, two Guntersville PP/K, five iron axes, one iron band, five iron bracelets, two iron hoes, one iron knife blade, 11 iron ornament fragments, two pieces of unidentified iron, one McKee Island Plain bowl, two PP/K, one red ocher, 298 shell beads, one shell gorget, one shell pin, three tested cobbles, and one tested pebble.

Although there are no radiocarbon dates from this site, Jon Marcoux's study of glass beads from 1MS32 indicates a historic occupation in the range of A.D. 1650-1750. Similarly, analysis of the brass bells recovered from this site suggests an occupation range from the late 1600s through the 1700s. During this period, multiple tribes were using the Guntersville Reservoir area. Spanish explorers of the 16th century and French explorers of the 17th and 18th century chronicle the presence of chiefdom-level tribal entities in the southeastern United States that resemble the historic Native American chiefdoms. Linguistic analysis of the place names noted by multiple Spanish explorers indicates that Koasati-speaking groups inhabited northeastern Alabama. Early maps and research into the historic Native American occupation of northeastern Alabama further indicate that the Koasati (as called by the English) or the Kaskinampo (as called by the French) were found at multiple sites in Jackson and Marshall Counties in the 17th and 18th centuries. Oral history, traditions, and expert opinions of the descendants of Koasati/Kaskinampo indicate that this portion of the Tennessee River valley was a homeland of each of their Tribes, and that by the middle 1700s, the Koasati/Kaskinampo were leaving the Tennessee River valley and moving south.

Both British and American historians indicate that some of the Cherokee were leaving their traditional Tribal lands in the Appalachian Mountains and the Little Tennessee River watershed in the 1700s. In the 1770s, a group of Cherokee (often designated the Chickamauga in historical documents) had relocated to areas northeast of the current city of Chattanooga. Reprisals by American militia for Cherokee support of the British during the American Revolution forced these Cherokee farther down the Tennessee River; by 1785, there were named Cherokee villages in the Guntersville Reservoir area. Cherokee oral traditions indicate that by 1755, the Cherokee were displacing groups often called “Creeks” in the historical documents in Georgia and Alabama. The timing of this transition is not clear. Although conflict is reported in historical documents, there were also periods when these groups peacefully occupied Marshall County together.

A relationship of shared group identity can reasonably be traced between these modern Tribes and the human remains and associated funerary objects of the early historic period. The evidence indicates that the cultural items from historic burials at 1MS32 are culturally affiliated with Native Americans descendants of the Koasati/Kaskinampo or the Cherokee. These descendants include the Alabama-Coushatta Tribe of Texas (previously listed as the Alabama-Coushatta Tribes of Texas); Alabama-Quassarte Tribal Town; Cherokee Nation; Coushatta Tribe of Louisiana; Eastern Band of Cherokee Indians; The Muscogee (Creek) Nation; and the United Keetoowah Band of Cherokee Indians in Oklahoma.

Determinations Made by the Tennessee Valley Authority

Officials of the Tennessee Valley Authority have determined that:

• Pursuant to 25 U.S.C. 3001(9), the human remains described in this notice represent the physical remains of 31 individuals of Native American ancestry based on their presence in an early historic archeological site and osteological analysis.

• Pursuant to 25 U.S.C. 3001(3)(A), the 3,629 objects described in this notice are reasonably believed to have been placed with or near individual human remains at the time of death or later as part of the death rite or ceremony.

• Pursuant to 25 U.S.C. 3001(2), TVA has determined by a reasonable belief, given the totality of circumstances, that these remains and objects are culturally affiliated with the Alabama-Coushatta Tribe of Texas (previously listed as the Alabama-Coushatta Tribes of Texas); Alabama-Quassarte Tribal Town; Cherokee Nation; Coushatta Tribe of Louisiana; Eastern Band of Cherokee Indians; The Muscogee (Creek) Nation; and the United Keetoowah Band of Cherokee Indians in Oklahoma.

Additional Requestors and Disposition

Lineal descendants or representatives of any Indian Tribe or Native Hawaiian organization not identified in this notice that wish to request transfer of control of these human remains and associated funerary objects should submit a written request with information in support of the request to Dr. Thomas O. Maher, TVA, 400 West Summit Hill Drive, WT11C, Knoxville, TN 37902-1401, telephone (865) 632-7458, email tomaher@tva.gov, by May 29, 2019. After that date, if no additional requestors have come forward, transfer of control of these human remains and associated funerary objects to the Alabama-Coushatta Tribe of Texas (previously listed as the Alabama-Coushatta Tribes of Texas); Alabama-Quassarte Tribal Town; Cherokee Nation; Coushatta Tribe of Louisiana; Eastern Band of Cherokee Indians; The Muscogee (Creek) Nation; and the United Keetoowah Band of Cherokee Indians in Oklahoma may proceed.

The Tennessee Valley Authority is responsible for notifying The Consulted Tribes that this notice has been published.

Dated: April 2, 2019.
Melanie O'Brien,
Manager, National NAGPRA Program.

[FR Doc. 2019-08590 Filed 4-26-19; 8:45 am]

BILLING CODE 4312-52-P